DEPARTMENT OF VETERANS AFFAIRS

[OMB Control No. 2900-0829]

Agency Information Collection Activity: Income and Asset Statement in Support of Claim for Pension or Parents' DIC (VA Form 21P-0969)

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0829.”

FOR FURTHER INFORMATION CONTACT: Maribel Aponte, Office of Enterprise and Integration, Data Governance Analytics (008), 1717 H Street NW, Washington, DC 20006, (202) 266-4688 or email maribel.aponte@va.gov. Please refer to “OMB Control No. 2900-0829” in any correspondence.

SUPPLEMENTARY INFORMATION:

Authority: 38 U.S.C. 1503, 38 U.S.C. 1543, and 38 U.S.C. 1315.

Title: Income and Asset Statement in Support of Claim for Pension or Parents' DIC (VA Form 21P-0969).

OMB Control Number: 2900-0829.

Type of Review: Extension of a currently approved collection.

Abstract: Under the authority of 38 U.S.C. 1503, 38 U.S.C. 1315, and 38 U.S.C. 1543, VA Form 21P-0969 will be used by claimants for VA Pension or Parents' Dependency and Indemnity Compensation (DIC) to provide information pertaining to income and assets to establish entitlement to Pension or Parents' DIC. This form will be completed only by those claimants who had income other than Social Security benefits during the calendar year before claiming benefits or who disposed of assets or have significant assets which may affect their entitlement to needs-based benefits.

An agency may not conduct or sponsor, and a person is not required to respond to a collection of information unless it displays a currently valid OMB control number. The Federal Register Notice with a 60-day comment period soliciting comments on this collection of information was published at 86 FR 161 on August 24, 2021, page 47372.

Affected Public: Individuals and households.

Estimated Annual Burden: 31,250 hours.

Estimated Average Burden per Respondent: 25 minutes.

Frequency of Response: Once.

Estimated Number of Respondents: 75,000.

By direction of the Secretary.
Maribel Aponte,
VA PRA Clearance Officer, Office of Enterprise and Integration, Data Governance Analytics, Department of Veterans Affairs.

[FR Doc. 2021-23579 Filed 10-28-21; 8:45 am]

BILLING CODE 8320-01-P